DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

PRT-036512

Applicant: The Field Museum of Natural History, Chicago, IL

The applicant requests a permit to import a hawksbill sea turtle (Eretmochelys imbricata) shell, a preserved bengal monitor (Varanus bengalensis), a Siamese crocodile (Crocodylus siamensis) skull and a set of Siamese crocodile skeletal remains from Cambodia for the purpose of scientific research.

PRT-042321

Applicant: Chicago Zoological Society, Brookfield, IL

The applicant requests a permit to import biological samples collected from cheetah (Acinonyx jubatus), African leopard (Panthera pardus), and African wild dog (Lycaon pictus) in Namibia for the purpose of scientific research. The samples are to be collected by Namibia's Ministry of Environment and Tourism (MET) from animals that are found dead or animals that were taken/destroyed in accordance with the country's management or problem animal control mandates. This notification covers activities conducted by the applicant for a period of five years.

PRT-043612

Applicant: William R. Trice, Dallas, TX

The applicant requests a permit to import the sport-hunted trophy of one male bontebok (Damaliscus pygargus dorcas) culled from a captive herd maintained under the management program of the Republic of South Africa, for the purposes of enhancement of the survival of the species.

PRT-044148

Applicant: A. Nelson Mc Carter, Houston, TX

The applicant requests a permit to import the sport-hunted trophy of one male bontebok (Damaliscus pygargus dorcas) culled from a captive herd maintained under the management program of the Republic of South Africa, for the purposes of enhancement of the survival of the species.

PRT-038607

Applicant: Michael McKenzie, Sulphur Springs, TX

The applicant requests a permit to import the sport-hunted trophy of one male bontebok (Damaliscus pygargus dorcas) culled from a captive herd maintained under the management program of the Republic of South Africa, for the purposes of enhancement of the survival of the species.

PRT-034736

Applicant: International Animal Exchange, Ferndale, MI

The applicant requests a permit to export two captive born white tigers (Panthera tigris) to the Dalian Forest Zoo, Dalian, China, for the purpose of enhancement of the species through conservation education.

PRT-043494

Applicant: St. Louis Zoological Park, St. Louis, Missouri

The applicant requests a permit to import biological samples from wild Galapagos hawk (Buteo galapagoensis) from Ecuador for the purpose of scientific research. This notification covers activities conducted by the applicant for a period of five years.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

PRT-773494

Applicant: Florida Fish and Wildlife Conservation Commission, St. Petersburg, FL

Permit Type: Take for scientific research.

Name and Number of Animals: Florida manatees (Trichecus manatus), variable number.

Summary of Activity to be Authorized: The applicant has requested an amendment to the permit to authorize take and Level B harassment of a variable number of captive-held and wild manatees. The activities include incidentally harassing (Level B harassment) manatees during the course of aerial surveys, photo-identification, equipment exchange and removal, capture, and radio tracking; collecting body temperature of captive, captive-held, rehabilitated, and rescued manatees using nasal or oral temperature probes; calibrating oral/nasal probes with rectal and stomach temperature probes using captive animals; closely approaching and possibly harassing (Level B harassment) captive and wild manatees while using a remote research vessel to read PIT tags; attaching infrared flashers to tethers of tagged manatees; and testing infrared flashers and time-depth recorders imbedded in the belts of 2 captive manatees.

Source of Marine Mammals: Entire range in Florida.

Period of Activity: Up to 5 years from the issuance date of the amended permit.

PRT-043925

Applicant: Samuel T. Fejes, Jr., Anchorage, AK

The applicant requests a permit to import a polar bear (Ursus maritimus) sport hunted from the Lancaster Sound polar bear population in Canada for personal use.

PRT-043984

Applicant: Brian Olson, Bloomington, MN

The applicant requests a permit to import a polar bear (Ursus maritimus) sport hunted from the Norwegian Bay polar bear population in Canada for personal use.

PRT-044120

Applicant: William David Figge, Orange, CA

The applicant requests a permit to import a polar bear (Ursus maritimus) sport hunted from the Lancaster Sound polar bear population in Canada for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: June 8, 2001.
Monica Farris,
Senior Biologist, Branch of Permits, Office of Management Authority.

[FR Doc. 01-15034 Filed 6-13-01; 8:45 am]

BILLING CODE 4310-55-U